DEPARTMENT OF THE INTERIOR

National Park Service

[NPS-WASO-NRNHL-DTS#-30714; PPWOCRADI0, PCU00RP14.R50000]

National Register of Historic Places; Notification of Pending Nominations and Related Actions

AGENCY: National Park Service, Interior.

ACTION: Notice.

SUMMARY: The National Park Service is soliciting electronic comments on the significance of properties nominated before August 1, 2020, for listing or related actions in the National Register of Historic Places.

DATES: Comments should be submitted electronically by August 31, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before August 1, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Yavapai County

Cottonwood Commercial Historic District (Boundary Increase), North Main St. and East Pima St., Cottonwood, BC100005549

FLORIDA

Columbia County

McKeithen Archaeological Site, Address Restricted, Wellborn vicinity, SG100005551

IOWA

Scott County

Davenport Downtown Commercial Historic District, 2nd St. to 5th St., Perry St. to Western Ave., Davenport, SG100005546

OHIO

Athens County

Stedman-Shafer Grocery Warehouse Building, 21 North Shafer St., Athens, SG100005540

UTAH

Millard County

Scipio Cooperative Mercantile Institution Building, 130 North State St., Scipio, SG100005544

Salt Lake County

Taylor, Thomas & Margaret, House (Murray City, Utah MPS), 604 East Taylor Ln., Murray, MP100005545

A request for removal has been made for the following resources:

ARIZONA

Maricopa County

Steinegger Lodging House (Phoenix Commercial MRA), 27 East Monroe St., Phoenix, OT86001369

UTAH

Cache County

Holley-Globe Grain and Milling Company Elevator, 100 North and Center St., Hyrum, OT85003386

Additional documentation has been received for the following resources:

ARIZONA

Yavapai County

Cottonwood Commercial Historic District (Additional Documentation), Approx. from 712 to 1124 North Main St., Cottonwood, AD00000497

UTAH

Davis County

Clark Lane Historic District (Additional Documentation), 207-399 West State and 33 North 200 West, Farmington, AD94001208

WISCONSIN

Ozaukee County

Tennie and Laura (Shipwreck) (Additional Documentation) (Great Lakes Shipwreck Sites of Wisconsin MPS), 9 mi. SE, of Port Washington, Port Washington vicinity, AD08000288

(Authority: Section 60.13 of 36 CFR part 60)

Dated: August 4, 2020.
Sherry A. Frear,
Chief, National Register of Historic Places/National Historic Landmarks Program.

[FR Doc. 2020-17796 Filed 8-13-20; 8:45 am]

BILLING CODE 4312-52-P